DEPARTMENT OF HEALTH AND HUMAN SERVICES

Administration for Community Living

[OMB Control Number 0985-0044]

Agency Information Collection Activities; Proposed Collection; Public Comment Request; State Plan for Independent Living Instrument and Instructions

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This Proposed Extension of a Currently Approved Collection (ICR Ext) solicits comments on the information collection requirements related to the State Plan for Independent Living under the Rehabilitation Act of 1973, as amended.

DATES: Comments on the collection of information must be submitted electronically by 11:59 p.m. (EST) or postmarked by January 24, 2023.

ADDRESSES: Submit electronic comments on the information collection request to: Peter Nye at OILPPRAComments@acl.hhs.gov. Submit written comments on the collection of information to Administration for Community Living, Washington, DC 20201, Attention: Peter Nye.

FOR FURTHER INFORMATION CONTACT: Peter Nye, Administration for Community Living, Washington, DC 20201, (202) 795-7606, or OILPPRAComments@acl.hhs.gov.

SUPPLEMENTARY INFORMATION: Under the PRA (44 U.S.C. 3501-3520), Federal agencies must obtain approval from the Office of Management and Budget (OMB) for each collection of information they conduct or sponsor. “Collection of information” is defined in and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Legal authority for the State Plan for Independent Living (SPIL) is contained in Chapter 1 of Title VII of the Rehabilitation Act of 1973, as amended by the Workforce Innovation and Opportunity Act ([the Act], Pub. L. 113-128). Section 704 of the Rehabilitation Act requires that, to be eligible to receive financial assistance under Chapter 1, “a State shall submit to the Department, and obtain approval of, a State plan containing such provisions as the Department may require.” ACL approval of the SPIL is required for states to receive federal funding for both the Independent Living Services State grants and Centers for Independent Living (CIL) programs. Federal statute and regulations require the collection of this information every three years. The current three-year approval period for the SPIL expires March 31, 2023. The SPIL Instrument is the template for SPILs; the SPIL Instructions explain the Instrument and give tips about how to draft SPILs.

The Office of Independent Living Programs (OILP) is proposing minor revisions based on OILP and the technical assistance provider revising the Instrument and Instructions to resolve issues that SILCs have reported having with their SPILs, and to increase the Instrument's and Instructions' clarity, conciseness, and precision. For example,

• The revised Instrument and Instructions correct grammatical and punctuation errors.

• The revised Instructions add lines for each core service.

• The revised Instrument and Instructions clarify the definition, and example, of state match.

These updates were recommended by the technical assistance provider and analyzed by all the independent living project officers who work directly with SPILs and the issues that they plan for. The SPIL is jointly developed by the chairperson of the Statewide Independent Living Council and the directors of the CILs in the state, after receiving public input from individuals throughout the State, and signed by the chairperson of the SILC, acting on behalf of—and at the direction of—the SILC, the director of the designated State entity, and not less than 51 percent of the directors of the CILs in the State. ACL reviews the SPIL for compliance with the Rehabilitation Act and 45 CFR part 1329 and approves the SPIL. The SPIL serves as a primary planning document for continuous monitoring of, and technical assistance to, the state independent living (IL) programs to ensure appropriate planning, financial support and coordination, and other assistance to appropriately address, statewide, needs for the provision of IL services in the state.

The proposed data collection tools may be found on the ACL website for review at https://www.acl.gov/about-acl/public-input.

Estimated Program Burden: ACL estimates the burden associated with this collection of information as follows: 56 Statewide Independent Living Councils (SILCs) will respond to the requirement for a SPIL every three years. Each state's SILC will take approximately 60 hours to develop the SPIL for a total of approximately 3,360 hours. This estimate is based on amounts of time SILCs have reported previously spending to complete the SPIL. ACL does not expect the change in Instrument and Instructions to take more or less time than the currently approved information collection. Therefore, there is no change to the estimated reporting burden.

Respondent/data collection activity | Number of respondents | Responses per respondent | Hours per response | Annual burden hours
Statewide Independent Living Councils | 56 | 1 | 60 | 3,360
Total | 56 | 1 | 60 | 3,360

Dated: November 19, 2022.
Alison Barkoff,
Acting Administrator and Assistant Secretary for Aging.

[FR Doc. 2022-25691 Filed 11-23-22; 8:45 am]

BILLING CODE 4154-01-P